DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey June Fertility Supplement.

OMB Control Number: 0607-0610.

Form Number(s): None.

Type of Request: Reinstatement, without change, of an expired collection.

Burden Hours: 250 hours.

Number of Respondents: 30,000.

Average Hours per Response: 30 seconds.

Needs and Uses: The purpose of this request for review is to obtain clearance for the supplemental inquiry concerning fertility to be conducted biennially in conjunction with the June Current Population Survey (CPS). The fertility questions will be asked of females 15-44 years of age. The June Fertility Supplement, like the June 2008 Fertility Supplement, differs from the June 1998 and the June 1995 supplements because it only includes fertility items. The 1998 supplement contained fertility and birth expectations items. The 1995 supplement contained fertility and marital history items.

The data collected from this supplement are used primarily by government and private analysts to project future population growth, to analyze childbearing patterns, and to assist policymakers in making decisions that are affected by changes in family size and composition. Past studies have documented profound changes to historical patterns that have occurred in fertility rates, family structures, premarital births, and the timing of the first birth. The CPS characteristics, such as family income, household relationships, and labor force status, when matched with fertility data, can produce estimates of potential needs families may have for governmental assistance: for example, aid to families with dependent children, childcare, and maternal health care for single-parent households. The fertility data also assist researchers and analysts who explore such important issues as premarital childbearing and postponement of childbirth because of educational or occupational responsibilities and goals. As a result of the rapid changes in the economy, the June Fertility supplement offers analysts a key indicator of family economic resources, namely, the employment status of women with infant children.

Item SF1 establishes the number of children ever born, and Item SF2 asks the month and year the last child was born. Fertility Items SF1 and SF2 were included in the June CPS Supplement annually since 1971, with the exception of 1989, 1991, 1993, 1996, 1997, and 1999. Discontinuance of the Fertility Supplement would interrupt a data series, which is built upon previous surveys first collected in June 1971. Without current fertility data, data for the most recent female cohorts (age 18-24) would be missing in fertility projections. The statistics and projections from these data are useful for legislators in the public sector and businesses that make policy and resource decisions about childcare, development, and changes in family life.

Affected Public: Individuals or households.

Frequency: Biennially.

Respondent's Obligation: Voluntary.

Legal Authority: Title 13, United States Code, Section 182.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: February 12, 2010.
Glenna Mickelson,
Management Analyst, Office of the Chief Information Officer.

[FR Doc. 2010-3139 Filed 2-18-10; 8:45 am]

BILLING CODE 3510-07-P